COMMISSION ON CIVIL RIGHTS

Agenda and Notice of Public Meeting of the Florida Advisory Committee

Notice is hereby given, pursuant to the provisions of the rules and regulations of the U.S. Commission on Civil Rights, that a planning meeting conference call of the Florida Advisory Committee to the United States Commission on Civil Rights will convene at 2 p.m. (EST) and adjourn at 4 p.m. (EST) on Thursday, August 3, 2006. The purpose of the conference call is to discuss the Committee's report, Desegregation of Public School Districts in Florida: School Districts with Unitary Status and Districts Under Court Jurisdiction Have Similar Integration Patterns.

This conference call is available to the public through the following call-in number: 800-497-7708, conference contact name is Peter Minarik. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and the contact name Peter Minarik.

To ensure that the Commission secures an appropriate number of lines for the public, persons are asked to register by contacting Peter Minarik, Southern Regional Office, (404) 562-7000, by Monday, August 1, 2006.

The meeting will be conducted pursuant to the provisions of the rules and regulations of the Commission.

Dated at Washington, DC, July 20, 2006.
Ivy Davis,
Acting Chief, Regional Programs Coordination Unit.

[FR Doc. E6-11841 Filed 7-24-06; 8:45 am]

BILLING CODE 6335-01-P